SURFACE TRANSPORTATION BOARD

Senior Executive Service Performance Review Board (PRB) and Executive Resources Board (ERB) Membership

AGENCY: Surface Transportation Board.

ACTION: Notice of Senior Executive Service Performance Review Board (PRB) and Executive Resources Board (ERB) Membership.

FOR FURTHER INFORMATION CONTACT: If you have any questions, please contact Teresa Schlee at teresa.schlee@stb.gov or 202-245-0340.

SUPPLEMENTARY INFORMATION: Effective immediately, the membership of the PRB and ERB is as follows:

Performance Review Board

Lucille Marvin, Chairman

Lee Gardner, Member

Rachel D. Campbell, Member

Craig M. Keats, Alternate Member

Executive Resources Board

Rachel D. Campbell, Chairman

Leland L. Gardner, Member

Lucille Marvin, Member

Craig M. Keats, Alternate Member

Raina Contee,
Clearance Clerk.

[FR Doc. 2017-14721 Filed 7-12-17; 8:45 am]

BILLING CODE 4915-01-P